DEPARTMENT OF TRANSPORTATION

Coast Guard

33 CFR Part 117

[CGD08-02-026]

RIN 2115-AE47

Drawbridge Operation Regulation; St. Croix River, Prescott, WI

AGENCY: Coast Guard, DOT.

ACTION: Notice of temporary deviation from regulations.

SUMMARY: The Commander, Eighth Coast Guard District has issued a temporary deviation from the regulation governing the Burlington Northern Railroad Drawbridge, Mile 0.2, St. Croix River at Prescott, Wisconsin. This deviation allows the drawbridge to remain closed to navigation except upon 24 hours notice to open for 44 days from 8 a.m., November 8, 2002, until 11:59 p.m., December 14, 2002, Central Standard Time. The deviation will facilitate maintenance work on the bridge that is essential to the continued safe operation of the drawbridge.

DATES: This temporary deviation is effective from 8 a.m., November 8, 2002, until 11:59 p.m., December 14, 2002.

ADDRESSES: Materials referred to in this notice are available for inspection or copying at the office of the Eighth Coast Guard District, Bridge Administration Branch, Commander (obr), Eighth Coast Guard District, 1222 Spruce Street, St. Louis, MO 63103-2832. The Bridge Administration Branch maintains the public docket for this temporary deviation.

FOR FURTHER INFORMATION CONTACT: Roger K. Wiebusch, Bridge Administrator, Commander (obr), Eighth Coast Guard District, 1222 Spruce Street, St. Louis, MO 63103-2832, (314) 539-3900, extension 2378.

SUPPLEMENTARY INFORMATION: The Burlington Northern Santa Fe Railroad requested a temporary deviation on September 23, 2002 for the operation of the drawbridge to allow the bridge owner time for preventative maintenance. The drawbridge operation regulations found at 33 CFR 117.667(a) require the drawbridge to open on signal if at least 24 hours notice is given from December 15 through March 31. At all other times the bridge is required to open on signal. This deviation allows the bridge to remain closed to navigation, even upon signal, from 8 a.m., November 8, 2002, to 11:59 p.m., December 14, 2002 unless 24 hours advance notice is given. The bridge will open for vessels giving at least 24 hours advance notice.

The Burlington Northern Santa Fe Railroad Drawbridge provides a vertical clearance of 20.4 feet above normal pool in the closed to navigation position. Navigation on the waterway is a mixture of recreational boating and commercial tows. This deviation has been coordinated with waterway users. No objections were received.

In accordance with 33 CFR 117.35(c), this work will be performed with all due speed in order to return the bridge to normal operation as soon as possible. This deviation from the operating regulations is authorized under 33 CFR 117.35.

Dated: November 8, 2002.
Roger K. Wiebusch,
Bridge Administrator.

[FR Doc. 02-30322 Filed 11-29-02; 8:45 am]

BILLING CODE 4910-15-P